DEPARTMENT OF ENERGY

Federal Energy Regulatory Commission

[Docket No. GT01-9-001]

Kern River Gas Transmission Company; Notice of Compliance Filing

March 14, 2001.

Take notice that on March 7, 2001, Kern River Gas Transmission Company (Kern River) tendered for filing an Amended and Restated Transportation Agreement Amendment to be effective January 10, 2001, subject, to conditions imposed by the Commission.

Kern River states that the purpose of this filing is to delete a first priority right to contract reductions provision and to modify another provision in the amendment to eliminate the requirement for pro rata reductions by receipt and delivery point.

Kern River states that a copy of this filing has been served upon each person designated on the official service list compiled by the Secretary in this proceeding.

Any person desiring to protest said filing should file a protest with the Federal Energy Regulatory Commission, 888 First Street, NE., Washington, DC 20426, in accordance with section 385.211 of the Commission's Rules and Regulations. All such protests must be filed on or before March 21, 2001. Protests will be considered by the Commission in determining the appropriate action to be taken, but will not serve to make protestants parties to the proceedings. Copies of this filing are on file with the Commission and are available for public inspection in the Public Reference Room. This filing may be viewed on the web at http://www.ferc.fed.us/online/rims/htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-6798 Filed 3-19-01; 8:45 am]

BILLING CODE 6717-01-M